DEPARTMENT OF AGRICULTURE

Forest Service

Trinity County Resource Advisory Committee

AGENCY: Forest Service, USDA.

ACTION: Notice of meeting.

SUMMARY: The Shasta County Resource Advisory Committee (RAC) will meet at the Trinity County Office of Education in Weaverville, California, June 28, 2004. The purpose of these meetings is to discuss proposed projects under Title II of the Secure Rural Schools and Community Self-Determination Act of 2000.

DATES: June 28, 2004.

ADDRESSES: Trinity County Office of Education, 201 Memorial Drive, Weaverville, CA 96093.

FOR FURTHER INFORMATION CONTACT: Michael R. Odle, Assistant, Public Affairs Officer and RAC Coordinator.

SUPPLEMENTARY INFORMATION: The meetings are open to the public. Public input sessions will be provided and individuals will have the opportunity to address the Resource Advisory Committee.

Dated: June 3, 2004.
J. Sharon Heywood,
Forest Supervisor.

[FR Doc. 04-13220 Filed 6-10-04; 8:45 am]

BILLING CODE 3410-11-M